DEPARTMENT OF TRANSPORTATION

Office of the Secretary

Notice of Applications for Certificates of Public Convenience and Necessity and Foreign Air Carrier Permits Filed Under Subpart B (Formerly Subpart Q) During the Week Ending September 9, 2005

The following Applications for Certificates of Public Convenience and Necessity and Foreign Air Carrier Permits were filed under Subpart B (formerly Subpart Q) of the Department of Transportation's Procedural Regulations (See 14 CFR 301.201 et seq.). The due date for Answers, Conforming Applications, or Motions to Modify Scope are set forth below for each application. Following the Answer period DOT may process the application by expedited procedures. Such procedures may consist of the adoption of a show-cause order, a tentative order, or in appropriate cases a final order without further proceedings.

Docket Number: OST-1999-5846.

Date Filed: September 8, 2005.

Due Date for Answers, Conforming Applications, or Motion to Modify Scope: September 29, 2005.

Description: Supplement No. 3 of United Air Lines, Inc. to its pending application for renewal and amendment of its experimental certificate of public convenience and necessity for Route 566 (U.S.-Mexico) to include authority to carry persons, property and mail in foreign air transportation between Denver and Cozumel and between Chicago and San Jose del Cabo as well as authority to integrate this service with other services it is authorized to provide by exemptions and certificates of public convenience and necessity, pursuant to the Department's Notice dated August 23, 2005, In the Matter of Streamlining Regulatory Procedures for Licensing U.S. and Foreign Air Carriers.

Docket Number: OST-2005-22228, OST-2005-22433, OST-2005-22434, and OST-2005-22435.

Date Filed: September 9, 2005.

Due Date for Answers, Conforming Applications, or Motion to Modify Scope: September 30, 2005.

Description: Application of Hawaiian Airlines, Inc. requesting certificate authority from the United States to Australia and Mexico, and related integration authority as provided in the Notice issued by the Department of Transportation on August 26, 2005

Renee V. Wright,
Program Manager, Docket Operations, Federal Register Liaison.

[FR Doc. 05-19700 Filed 9-30-05; 8:45 am]

BILLING CODE 4910-62-P